NATIONAL AERONAUTICS AND SPACE ADMINISTRATION

[Notice: (15-089)]

International Space Station Advisory Committee; Charter Renewal

AGENCY: National Aeronautics and Space Administration (NASA).

ACTION: Notice of renewal and amendment of the charter of the International Space Station Advisory Committee.

SUMMARY: Pursuant to sections 14(b)(1) and 9(c) of the Federal Advisory Committee Act (Pub. L. 92-463), and after consultation with the Committee Management Secretariat, General Services Administration, the NASA Administrator has determined that renewal and amendment of the charter of the International Space Station Advisory Committee is in the public interest in connection with the performance of duties imposed on NASA by law. The renewed charter is for a one-year period ending September 30, 2016. It is identical to the previous charter, except for an update to the description of Designated Federal Official (DFO) responsibilities which includes ethics language consistent with other NASA Federal advisory committee charters.

FOR FURTHER INFORMATION CONTACT: Mr. Patrick Finley, (202) 358-5684, Office of International and Interagency Relations, NASA Headquarters, Washington, DC 20546.

P. Diane Rausch,
Advisory Committee Management Officer, National Aeronautics and Space Administration.

[FR Doc. 2015-25560 Filed 10-6-15; 8:45 am]

BILLING CODE 7510-13-P